DEPARTMENT OF COMMERCE

National Oceanic and Atmospheric Administration

RIN 0648-XC667

Application for a Permit Modification: Endangered Species; File No. 17304

AGENCY: National Marine Fisheries Service (NMFS), National Oceanic and Atmospheric Administration (NOAA), Commerce.

ACTION: Notice; receipt of application for a permit modification.

SUMMARY: Notice is hereby given that Kristen Hart, Ph.D., U.S. Geological Survey, 3205 College Ave., Davie, FL 33314, has requested a modification to scientific research Permit No. 17304-01.

DATES: Written, telefaxed, or email comments must be received on or before November 4, 2015.

ADDRESSES: The modification request and related documents are available for review by selecting “Records Open for Public Comment” from the Features box on the Applications and Permits for Protected Species (APPS) home page, https://apps.nmfs.noaa.gov, and then selecting File No. 17304 Mod 2 from the list of available applications. These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Carrie Hubard, (301) 427-8401.

SUPPLEMENTARY INFORMATION: The subject modification to Permit No. 17304, issued on September 20, 2013 (78 FR 59657) is requested under the authority of the Endangered Species Act of 1973, as amended (16 U.S.C. 1531 et seq.) and the regulations governing the taking, importing, and exporting of endangered and threatened species (50 CFR 222-226).

Permit No. 17304-01 authorizes researchers to capture 100 green, 100 loggerhead, 90 Kemp's ridley, and 20 hawksbill sea turtles annually by hand or using nets in the northern Gulf of Mexico. Alternative to direct capture, researchers may obtain sea turtles for study that are legally captured during relocation trawling for the U.S. Army Corps of Engineers. Sea turtles may have the following types of procedures performed before release: Morphometrics, marking, photograph/video, tagging, biological sampling, and/or attachment of transmitters and subsequent tracking. The permit is valid through September 30, 2018. Dr. Hart is seeking to modify the permit to (1) authorize trawling as a capture method, and (2) increase the annual number of loggerhead and Kemp's ridley sea turtles taken by 200 and 210 turtles, respectively. This work would be used to (1) provide density and abundance data to managers for these species in Louisiana waters and associated federal waters, and (2) establish the feasibility of sea turtle monitoring in the Gulf of Mexico by trawl.

Dated: September 29, 2015.
Julia Harrison,
Chief, Permits and Conservation Division, Office of Protected Resources, National Marine Fisheries Service.

[FR Doc. 2015-25209 Filed 10-2-15; 8:45 am]

BILLING CODE 3510-22-P